FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012161-002.

Title: Siem Car Carriers AS/Hyundai Glovis Co., Ltd. Space Charter Agreement.

Parties: Siem Car Carriers AS; and Hyundai Glovis Co., Ltd.

Filing Party: Ashley W. Craig, and Elizabeth K. Lowe; Venable LLP; 575 Seventh Street NW., Washington, DC 20004.

Synopsis: The amendment updates the name and address of Siem Car Carriers AS and expands the geographic scope to include the U.S. East Coast.

Agreement No.: 012280.

Title: CKYHE Discussion Agreement.

Parties: COSCO Container Lines Company, Limited; Kawasaki Kisen Kaisha, Ltd.; Yang Ming (UK) Ltd.; Hanjin Shipping Co., Ltd.; and Evergreen Line Joint Service Agreement.

Filing Party: Eric. C. Jeffrey, Esq.; Nixon Peabody LLP; 401 9th Street NW., Suite 900; Washington, DC 20004.

Synopsis: The agreement would authorize the parties to discuss possible cooperation in the U.S. trades.

Agreement No.: 201202-005.

Title: Oakland MTO Agreement.

Parties: Ports of America Outer Harbor Terminal, LLC; Seaside Transportation Service LLC; SSA Terminals, LLC; SSA Terminals (Oakland), LLC; and Trapac, Inc.

Filing Party: David F. Smith, Esq.; Cozen O'Connor; 1627 I Street NW.; Suite 1100; Washington, DC 20006.

Synopsis: The amendment would authorize the parties to discuss and agree on a potential off-peak program. The amendment would also update the address of one of the parties, and the name of another party.

By Order of the Federal Maritime Commission.
Dated: May 23, 2014.
Rachel E. Dickon,
Assistant Secretary.

[FR Doc. 2014-12477 Filed 5-28-14; 8:45 am]

BILLING CODE 6730-01-P